DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) Transportation Airplane and Engine (TAE) Subcommittee to discuss transport airplane and engine issues.

DATES: The meeting is scheduled for Tuesday, May 7, 2013, starting at 9:00 a.m. Pacific Daylight Time. Arrange for oral presentations by April 30, 2013.

ADDRESSES: FAA—Northwest Mountain Region, conference room 130, 1601 Lind Ave. SW., Renton, WA 98057.

FOR FURTHER INFORMATION CONTACT: Ralen Gao, Office of Rulemaking, ARM-209, FAA, 800 Independence Avenue SW., Washington, DC 20591, Telephone (202) 267-3168, Fax (202) 267-5075, or email at ralen.gao@faa.gov.

SUPPLEMENTARY INFORMATION: Pursuant to Section 10(a)(2) of the Federal Advisory Committee Act (Pub. L. 92-463; 5 U.S.C. app. III), notice is given of an ARAC meeting to be held May 7, 2013.

The agenda for the meeting is as follows:

• Opening Remarks, Review Agenda and Minutes

• FAA Report

• ARAC Report

• Transport Canada Report

• EASA Report

• Flight Controls Harmonization Working Group Report

• Aging Airplanes Working Group Report

• Engine Harmonization Working Group—New Tasking

• Flight Test Harmonization Working Group—New Tasking

• Action Item Review and Other Business

Attendance is open to the public, but will be limited to the availability of meeting room space. Please confirm your attendance with the person listed in the FOR FURTHER INFORMATION CONTACT section no later than April 30, 2013. Please provide the following information: Full legal name, country of citizenship, and name of your industry association, or applicable affiliation. If you are attending as a public citizen, please indicate so.

For persons participating by telephone, please contact the person listed in the FOR FURTHER INFORMATION CONTACT section by email or phone for the teleconference call-in number and passcode. Anyone calling from outside the Renton, WA, metropolitan area will be responsible for paying long-distance charges.

The public must make arrangements by April 30, 2013, to present oral statements at the meeting. Written statements may be presented to the ARAC at any time by providing 25 copies to the person listed in the FOR FURTHER INFORMATION CONTACT section or by providing copies at the meeting. Copies of the documents to be presented to ARAC may be made available by contacting the person listed in the FOR FURTHER INFORMATION CONTACT section.

If you need assistance or require a reasonable accommodation for the meeting or meeting documents, please contact the person listed in the FOR FURTHER INFORMATION CONTACT section. Sign and oral interpretation, as well as a listening device, can be made available if requested 10 calendar days before the meeting.

Issued in Washington, DC, on April 8, 2013.
Brenda D. Courtney,
Acting Designated Federal Officer.

[FR Doc. 2013-08495 Filed 4-10-13; 8:45 am]

BILLING CODE 4910-13-P